DEPARTMENT OF ENERGY

Federal Energy Regulatory Commission

Combined Notice of Filings #2

Take notice that the Commission received the following electric rate filings:

Docket Numbers: ER11-2970-001.

Applicants: Peetz Logan Interconnect, LLC.

Description: Peetz Logan Interconnect, LLC submits tariff filing per 35: Peetz Logan Interconnect, LLC OATT Compliance Filing to be effective 11/1/2011.

Filed Date: 09/02/2011.

Accession Number: 20110902-5035.

Comment Date: 5 p.m. Eastern Time on Friday, September 23, 2011.

Docket Numbers: ER11-4423-000.

Applicants: Lockport Energy Associates, L.P.

Description: Lockport Energy Associates, L.P. submits tariff filing per 35.12: Lockport Energy Baseline Filing to be effective 9/2/2011.

Filed Date: 09/02/2011.

Accession Number: 20110902-5040.

Comment Date: 5 p.m. Eastern Time on Friday, September 23, 2011.

Docket Numbers: ER11-4424-000.

Applicants: PJM Interconnection, LLC.

Description: PJM Interconnection, LLC submits tariff filing per 35.13(a)(2)(iii): Original Service Agreement No. 3043 regarding the PPL Renewable ISA to be effective 8/3/2011.

Filed Date: 09/02/2011.

Accession Number: 20110902-5047.

Comment Date: 5 p.m. Eastern Time on Friday, September 23, 2011.

Docket Numbers: ER11-4425-000.

Applicants: PJM Interconnection, LLC.

Description: PJM Interconnection, LLC submits tariff filing per 35: Notice of Cancellation of Service Agreement No. 1964 in Docket No. ER08-1267-001 to be effective N/A.

Filed Date: 09/02/2011.

Accession Number: 20110902-5070.

Comment Date: 5 p.m. Eastern Time on Friday, September 23, 2011.

Docket Numbers: ER11-4426-000.

Applicants: Gulf States Energy, Inc.

Description: Gulf States Energy, Inc. Cancellation Notice.

Filed Date: 09/02/2011.

Accession Number: 20110902-5077.

Comment Date: 5 p.m. Eastern Time on Friday, September 23, 2011.

Docket Numbers: ER11-4427-000.

Applicants: Gulf States Energy Investments L.P.

Description: Gulf States Energy Investments L.P. Cancellation Notice.

Filed Date: 09/02/2011.

Accession Number: 20110902-5079.

Comment Date: 5 p.m. Eastern Time on Friday, September 23, 2011.

Docket Numbers: ER11-4428-000.

Applicants: Minco Wind II, LLC.

Description: Minco Wind II, LLC submits tariff filing per 35.12: Minco Wind II, LLC Market-Based Rate Tariff to be effective 9/30/2011.

Filed Date: 09/02/2011.

Accession Number: 20110902-5087.

Comment Date: 5 p.m. Eastern Time on Friday, September 23, 2011.

Docket Numbers: ER11-4429-000.

Applicants: Gulf States Wholesale Equity Partners, LP.

Description: Gulf States Wholesale Equity Partners, LP Cancellation Notice under ER11-4429.

Filed Date: 09/02/2011.

Accession Number: 20110902-5088.

Comment Date: 5 p.m. Eastern Time on Friday, September 23, 2011.

Docket Numbers: ER11-4430-000.

Applicants: Gulf States Wholesale Equity Partners II.

Description: Gulf States Wholesale Equity Partners II, LP Cancellation Notice.

Filed Date: 09/02/2011.

Accession Number: 20110902-5089.

Comment Date: 5 p.m. Eastern Time on Friday, September 23, 2011.

Docket Numbers: ER11-4431-000.

Applicants: Lucky Lady Oil Company.

Description: Lucky Lady Oil Company Cancellation Notice.

Filed Date: 09/02/2011.

Accession Number: 20110902-5091.

Comment Date: 5 p.m. Eastern Time on Friday, September 23, 2011.

Docket Numbers: ER11-4432-000.

Applicants: PJM Interconnection, LLC.

Description: PJM Interconnection, LLC submits tariff filing per 35: Rate Schedule 41 Baseline-Operating Protocols among PJM, NYISO, ConEd and PSE&G to be effective 9/17/2010.

Filed Date: 09/02/2011.

Accession Number: 20110902-5090.

Comment Date: 5 p.m. Eastern Time on Friday, September 23, 2011.

Docket Numbers: ER11-4433-000.

Applicants: Helios Energy LLC.

Description: Helios Energy LLC Cancellation Notice.

Filed Date: 09/02/2011.

Accession Number: 20110902-5093.

Comment Date: 5 p.m. Eastern Time on Friday, September 23, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2011.
Nathaniel J. Davis, Sr.,
Deputy Secretary.

[FR Doc. 2011-23230 Filed 9-9-11; 8:45 am]

BILLING CODE 6717-01-P